DEPARTMENT OF THE INTERIOR

National Park Service

National Register of Historic Places; Notification of Pending Nominations and Related Actions

Nominations for the following properties being considered for listing or related actions in the National Register were received by the National Park Service before May 17, 2008. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by June 18, 2008.

J. Paul Loether,
Chief, National Register of Historic Places/National Historic Landmarks Program.

ALABAMA

Elmore County

Lanark Plantation, 3050 Lanark Rd., Millbrook, 08000543

FLORIDA

Alachua County

Engineering Industries Building, (University of Florida Campus MPS), Stadium Rd and Gale Lemerand Dr (North-South Dr), Gainesville, 08000547

Hub, The, (University of Florida Campus MPS), Stadium Rd between Buckman Dr and Fletcher Dr, Gainesville, 08000551

Yulee-Mallory-Reid Dormitory Complex, (University of Florida Campus MPS), 13th St and Inner Rd., SW, Gainesville, 08000552

INDIANA

Boone County

Brock, Pryor Farmstead, (Eagle Township and Pike Township, Indiana MPS), 8602 C.R. Rd 500 S, Zionsville, 08000569

Daviess County

Wilson, Dr Nelson, House, 103 E National Highway, Washington, 08000566

Fulton County

Rochester Downtown Historic District, Roughly bounded along Main St and the Courthouse Square, Rochester, 08000556

Marion County

North Irvington Gardens Historic District, (Historic Residential Suburbs in the United States, 1830-1960 MPS), Roughly bounded by 11th, 10th, Pleasant Run Golf Course, Arlington Ave, Pleasant Run Pkwy N Drive, Ritter Ave, Indianapolis, 08000557

Washington Park Historic District, Bounded by Pennsylvania St, Washington Blvd, New Jersey, west side of Central Ave between 40th and 43rd St, Indianapolis, 08000565

Marshall County

Tippecanoe Twp. District No. 3 and Cemetery, (Indiana's Public Common and High Schools MPS), State Rd 10 at Birch Rd, Tippecanoe, 08000567

Morgan County

Crawford-Gilpin House, 339 S. Ohio St, Martinsville, 08000558

Porter County

Skinner, DeForest, House, 208 Washington St, Valparaiso, 08000568

MASSACHUSETTS

Berkshire County Springside Park, 874 North St, Pittsfield, 08000553

MISSOURI

Clay County

Armour Theatre Building, 400-410 Armour Rd, North Kansas City, 08000560

Jackson County

Chatham Hotel, 3701 Broadway, Kansas City, 08000564

NEW JERSEY

Cape May County

Battery 223, Beach at Cape May State Park, Lower Township, 08000555

Hudson County

United Synagogue of Hoboken, 115-117 Park Ave, Hoboken, 08000563

Salem County

Salem County Insane Asylum, 900 Route 45, Mannington Township, 08000562

Somerset County

Old Stone Arch Bridge, Railroad Ave, approximately 194 feet east of South Main St, Bound Brook Borough, Middlesex, 08000550

Warren County

Lander-Stewart mansion and Stites building, 102-104 S. Main St, Phillipsburg Town, 08000561

OREGON

Benton County

Camp Arboretum Sign Shop, 8592-8399 NW Peavy Arboretum, Corvallis, 08000544

Oregon State University Historic District, Monroe and Orchard Ave., 30th St., Washington Wy., Jefferson Ave., 11th St., Corvallis, 08000546

Multnomah County

Campbell Court Hotel, (Downtown Portland, Oregon MPS) 1115 SW 11th Ave, Portland, 08000559

Washington County

Doriot-Rider Log House, 14850 132nd Terr, SW, Tigard, 08000554

PENNSYLVANIA

Philadelphia County

Archway Corporation Loft Building, 2116-2130 Arch St, Philadelphia, 08000571

RHODE ISLAND

Newport County

Smith-Gardiner-Norman Farm Historic District, 583 Third Beach Rd, Middletown, 08000570

WISCONSIN

Kenosha County

Kenosha North Pierhead Light, (Light Stations of the United States MPS), North pier at Kenosha harbor entry, 0.1 mile east of Simmons Island Park, Kenosha, 08000545

[FR Doc. E8-12384 Filed 6-2-08; 8:45 am]

BILLING CODE 4310-70-P